DEPARTMENT OF HEALTH AND HUMAN SERVICES

Administration on Aging

Statement of Organization, Functions, and Delegations of Authority

AGENCY: Administration on Aging.

ACTION: Notice.

SUMMARY: Statement of Organization, Functions, and Delegations of Authority.

This reorganization of AoA will achieve several important objectives: It will strengthen the organization by establishing strategic focal points for the agency's policy, programmatic and administrative functions; elevate AoA's National Long-Term Care Ombudsman activities; improve the integration of AoA's strategic planning, policy analysis, evaluation and program development functions; and consolidate programmatic operations to enhance the organization's capacity to implement the provisions of the Older Americans Act which seek to assist older Americans to remain at home by streamlining access to community-based care and empowering older adults to take more control of their own health through lifestyle and behavioral changes.

FOR FURTHER INFORMATION CONTACT: Dan Berger, Administration on Aging, 1 Massachusetts Avenue, NW., Washington, DC 20201, 202-357-3419.

This notice amends Part B of the Statement of Organization, Functions, and Delegations of Authority of the Department of Health and Human Services (HHS), Administration on Aging (AoA), as follows: Part B, Administration on Aging (73 FR 1347-1354), as last amended, January 8, 2008. The changes are as follows:

I. Delete Part B, “The Administration on Aging” in its entirety and replace with the following:

B.00 Mission

B.10 Organization

B.20 Functions

B.00 Mission. The Administration on Aging (AoA) is the principal agency designated to carry out the provisions of the Older Americans Act (“OAA” or “The Act”) of 1965, as amended, 42 U.S.C. 3001 et seq.; the Alzheimer's Disease Demonstration Grants to States Program, established under section 398 of the Public Health Service Act (PHSA), as amended, 42 U.S.C. 280c-3; and the Lifespan Respite Care Program, established under Title XXIX of the PHSA, 42 U.S.C. 201. AoA's mission is to help elderly individuals maintain their dignity and independence in their homes and communities through comprehensive, coordinated, and cost effective systems of long-term care, and livable communities across the United States. AoA serves as the effective and visible advocate for older persons within the Department of Health and Human Services (HHS) and with other Federal agencies.

B.10 Organization. AoA is an Operating Division (OPDIV) of HHS, which is headed by the Assistant Secretary for Aging who reports directly to the Secretary. In addition to the Assistant Secretary, the AoA consists of the Principal Deputy Assistant Secretary and Staff and Program Offices. AoA is organized as follows:

Office of the Assistant Secretary (BA)

Office of the Principal Deputy Assistant Secretary (BB)

Center for Management and Budget (BE)

Center for Program Operations (BF)

Center for Policy, Planning, and Evaluation (BH)

B.20 Functions. AoA assists the Secretary in all matters pertaining to opportunities and challenges of the elderly. Advocates for the needs of older persons in program planning and policy development within the Department and in other Federal agencies. Advises the Secretary, Departmental components and other Federal departments and agencies on the characteristics, circumstances and needs of older people and develops policies, plans and programs designed to promote their welfare.

Develops, recommends and issues policies, procedures and interpretations to provide direction to the programs it administers, including Titles II, III, IV, VI, and VII of the OAA, as well as the Lifespan Respite Care and the Alzheimer's Disease Demonstration Grants to States programs. Administers a program of mandatory grants to States to establish State and community programs for older persons; and administers a program of grants to American Indians, Alaskan Natives and Native Hawaiians to establish programs for older Native Americans. Provides policy and procedural direction, advice and assistance to States and Native American grantees to promote the development of State and Native American-administered, community-based service systems of comprehensive social services for older persons.

Administers long-term care ombudsman, protective services programs and legal services development programs for older people. Approves or disapproves State plans and Native American funding applications. Administers programs of training, research and demonstration. Administers national centers for service development and assistance, and information dissemination benefiting older persons.

Promotes through the State and Area Agencies on Aging and Indian Tribal Organizations a national community-based long-term care program for older persons. Develops and issues program designs, guidelines, standards and assistance to State and Area Agencies, Indian Tribal Organizations.

The functions of the organizational units of AoA are described in detail in the succeeding Parts.

A. Office of the Assistant Secretary (BA):

BA.00 Mission

BA.10 Organization

BA.20 Functions

BA.00 Mission. The Office of the Assistant Secretary provides executive direction, leadership, and guidance for OAA programs and the PHSA Alzheimer's Disease Demonstration Grants to States and Lifespan Respite Care Programs, and serves as the focal point for the development, coordination and administration of those programs nationwide. The Office advises the Secretary on issues affecting America's elderly population.

BA.10 Organization. The Office of the Assistant Secretary is headed by an Assistant Secretary, who reports to the Secretary. The Office includes the following components:

Immediate Office of the Assistant Secretary (BA)

Congressional and Public Affairs (BAA)

National Long-Term Care Ombudsman (BAB)

BA.20 Functions.

1. Immediate Office of the Assistant Secretary (BA). The Immediate Office of the Assistant Secretary (IOAS) is responsible to the Secretary for carrying out AoA's mission and provides executive supervision to the major components of AoA. The Office serves as the effective and visible advocate within the Federal government to ensure the rights and entitlements of the elderly.

Sets national policies, establishes national priorities, ensures policy consistency, and directs plans and programs conducted by AoA. Advises the Secretary, HHS agencies, and other Federal agencies on the characteristics, circumstances, and needs of older people, and on policies, plans and programs designed to promote their welfare.

In collaboration with other Federal agencies, develops and implements interagency agreements to assist older persons. Provides liaison with other Federal advisory committees focused on the aging. Works with national aging organizations, professional societies, and academic organizations to identify mutual interests and plan voluntary and funded approaches to meet the needs of older persons. Ensures affirmative action throughout the Aging Network in employment and service delivery.

2. Congressional and Public Affairs (BAA). Congressional and Public Affairs supports the Assistant Secretary in the effective communication of AoA policies, goals, and objectives. In coordination with the Department, manages AoA's media relations and legislative liaison activities.

Coordinates the development of legislative proposals, testimony, background statements, and other policy documents for use by the Assistant Secretary in activities related to legislation. In coordination with the HHS Office of the Assistant Secretary for Legislation, analyzes proposed and enacted legislation related directly or indirectly to older people, including legislation directly affecting OAA programs. Utilizes automated legislative information systems to track bills related to the aging. Develops and issues status reports regarding key legislative developments to Central Office and Regional Support Centers staff, the network of State and Area Agencies on Aging, and Indian Tribal Organizations.

Coordinates with the Office of the Assistant Secretary for Public Affairs, including planning and implementing strategy for relations with the news and other information media. Initiates media outreach activities and responds to all media inquiries concerning AoA programs and related issues.

3. National Long-Term Care Ombudsman (BAB). The National Long-Term Care Ombudsman serves as and carries out the functions of the Office of Long-Term Care Ombudsman Programs established in Section 201(d)(1) of the OAA. Serves as the effective and visible advocate regarding Federal policies and laws that may adversely affect the health, safety, welfare, or rights of older residents of long-term care facilities.

Reviews Federal legislation, regulations, and policies regarding long-term care ombudsman programs and makes recommendations to the Assistant Secretary. Coordinates the activities of AoA with other Federal, State and local entities relating to long-term care ombudsman programs; prepares an annual report to Congress on the effectiveness of services provided by State long-term care ombudsman programs; and establishes standards for the training of State long-term care ombudsman staff.

Works with the Office of Elder Rights to administer the Long-Term Care Ombudsman Program established under section 712 of the OAA and the National Ombudsman Resource Center established under section 202(a)(21) of the OAA. Make recommendations to the Assistant Secretary regarding the operation of the National Ombudsman Resource Center, and the review and approval of the provisions in State plans submitted under section 307(a) of the OAA that relate to State Long-Term Care Ombudsman programs.

B. Office of the Principal Deputy Assistant Secretary (BB):

BA.00 Mission

BA.10 Organization

BA.20 Functions

BA.00 Mission. The Office of the Principal Deputy Assistant Secretary supports the Office of the Assistant Secretary in providing executive direction, leadership, and guidance for agency programs and operations, particularly in the areas of intergovernmental affairs and the administration of regional operations. The Office works with the Assistant Secretary to support the development, coordination and administration of programs and issues affecting America's elderly population.

BA.10 Organization. The Office of the Principal Deputy Assistant Secretary is headed by a Deputy Assistant Secretary, who reports to the Assistant Secretary. The Office includes the following components:

Immediate Office of the Principal Deputy Assistant Secretary (BB)

Executive Secretariat (BBA)

Regional Support Centers (BBB1-BBBX)

BA.20 Functions.

1. Immediate Office of the Principal Deputy Assistant Secretary (BB). The Immediate Office of the Principal Deputy Assistant Secretary (IOPDAS) supports the Assistant Secretary in advancing the concerns and interests of older people and their caregivers. The Principal Deputy Assistant Secretary serves as the Assistant Secretary's primary associate in carrying out AoA's mission, goals, and objectives.

Develops and maintains effective relationships with government entities and their representatives at the Federal, State and local levels to develop a unified policy toward, and promote, the aims of the OAA, especially as they relate to a community-based system of long-term care for the aging and disabled. Supports the development of more responsive service systems through intergovernmental and private sector initiatives and partnerships to address age-related issues and concerns.

The Principal Deputy Assistant Secretary also serves as the AoA Reports Clearance Officer and is the AoA principal liaison with the Office of the General Counsel (OGC), the Office of the Inspector General (OIG), and the Government Accountability Office (GAO) regarding reviews of AoA programmatic activities conducted by these entities.

2. Executive Secretariat (BBA). The Executive Secretariat (ES) coordinates essential policy and program concerns and ensures that issues requiring the attention of the Assistant Secretary, Principal Deputy Assistant Secretary, and other executive staff are addressed on a timely and coordinated basis. It serves as the AoA liaison with the HHS Executive Secretariat.

Receives, assesses, and controls incoming correspondence and assignments to the appropriate AoA component(s) for response and action; provides assistance and advice to AoA staff on the development of responses to correspondence and on the controlled correspondence system; and tracks development of periodic reports and facilitates departmental clearance. Maintains official copies of all policy and information issuances and data collection instruments, ensuring proper clearance before issuance and annually reviewing for accuracy and compliance with laws and regulations. Serves as records manager providing assistance to both Central Office and Regional staff regarding filing practices, retention and disposition of records.

Reviews all materials for Federal Register publication, ensuring compliance with guidelines. Serves as liaison with the Office of the Federal Register on regulatory actions and the OIG and the GAO on all program matters other than those related to financial management, grants, or procurement management. Serves as the Freedom of Information Act (FOIA) Officer for AoA, reviews FOIA requests, and arranges for appropriate responses in coordination with the HHS FOIA Officer. Coordinates mandated OMB approvals required under the Paperwork Reduction Act of 1980, as amended.

3. Regional Support Centers (BBB1-BBBX). The Regional Support Centers report to the Principal Deputy Assistant Secretary. The central office regional liaisons supports the Principal Deputy Assistant Secretary in coordinating the operations of the Regional Support Centers, each of which is headed by a Regional Administrator (RA). The central office regional liaisons also coordinate with AoA's Regional Support Centers and aging network organizations to assess and respond to the needs of older individuals following a Presidential disaster declaration; oversee disaster assistance and reimbursement activities pursuant to Section 310 of the OAA; serve as the primary liaison with the Secretary's Operations Center, the Office of the Assistant Secretary for Preparedness and Response, and various interagency working groups to represent AoA and the unique interests of older individuals and other special needs populations; and work with HHS, other Federal agencies, and other national, State, local and Tribal entities to develop operational plans and training to ensure the preparedness of AoA and the Aging Network to respond to threats, disasters and emergencies.

The Regional Support Centers serve as the focal point for the development and coordination of OAA programs within the designated HHS region. Represent the Assistant Secretary for Aging within the region, providing information for, and contributing to the development of, national policy dealing with the elderly. Based on national policy and priorities, establish field program goals and objectives. Serve as the effective and visible advocates for the elderly to Federal agencies in their geographic jurisdiction to ensure the rights of the elderly; advise, consult and cooperate with each Federal agency proposing or administering programs or services related to the aging; coordinate and assist in the planning and development by public (including Federal, State, Tribal and local agencies) and private organizations of comprehensive and coordinated services and opportunities for older individuals in each community of the nation; and conduct active public education of officials and citizens and the aged to ensure broad understanding of the needs and capabilities of the aged.

Monitor, assist and evaluate State Agencies on Aging administering programs supported under Titles II, III and VII of the OAA, and Indian Tribal Organizations administering projects under Title VI. Participates in the review OAA State Plans on Aging and recommend approval or disapproval to the Assistant Secretary for Aging, as appropriate. Participates in the review of applications and recommend approval or disapproval of Title VI applications to the Assistant Secretary.

Advise the Assistant Secretary of problems and progress of programs through the Principal Deputy Assistant Secretary; recommend to the Assistant Secretary changes that would improve OAA operations; evaluate the effectiveness of OAA and related programs in the Regions and recommend to the Assistant Secretary or take positive action to gain improvement; and guide agencies and grantees in applications of policy to specific operational issues requiring resolution. Facilitate interagency cooperation at the Federal, Regional Support Center, State and Tribal levels to enhance resources and assistance available to the elderly. Disseminate and provide technical assistance regarding program guidelines and developments to State and Area Agencies, Indian Tribal Organizations and local community service providers.

B. Center for Management and Budget (BE):

BE.00 Mission

BE.10 Organization

BE.20 Functions

BE.00 Mission. The Center for Management and Budget (CMB) advises the Assistant Secretary for Aging on the budget, financial, grants, information resources, procurement, administrative and human resources management activities of AoA.

BE.10 Organization. The Center for Management and Budget is headed by a Deputy Assistant Secretary who reports directly to the Assistant Secretary for Aging. The Center is organized as follows:

Office of the Deputy Assistant Secretary for Management and Budget (BE)

Office of Budget and Finance (BE1)

Office of Administration and Personnel (BE2)

Office of Grants Management (BE3)

Office of Information Resources Management (BE4)

BE.20 Functions.

1. Office of the Deputy Assistant Secretary for Management and Budget (BE). The Office of the Deputy Assistant Secretary for Management and Budget (ODASMB) directs and coordinates all activities of the Center. The Deputy Assistant Secretary serves as the AoA's Chief Financial Officer (CFO) and Chief Information Officer (CIO) and is the principal advisor and counselor to the Assistant Secretary for Aging on all aspects of the internal administration and management of AoA.

Serves as the AoA liaison with the Office of the Assistant Secretary for Administration, the Office of the Assistant Secretary for Financial Resources (ASFR), the OGC, the OIG, and the Office of Management and Budget (OMB) for areas under CMB's purview. Develops, administers, and coordinates financial, operational, and budgetary policies, processes, and controls necessary to administer AoA programs and financial resources; directs discretionary and mandatory grants activities; oversees the utilization of information resources, information technology systems and telecommunications management; provides leadership for human capital development; and coordinates AoA's internal control activities.

Coordinates with other components to carry out reviews of program activities and management practices required under the Chief Financial Officers Act, the Federal Managers Financial Integrity Act, the Improper Payments Information Act, the Federal Information Security Management Act, and other legislation. Monitors legislation related to administrative management and provides analysis of the impact on AoA programs and resources. Plans, organizes and conducts studies of organizational structures, functional statements, job structures, staffing patterns, and management and administrative information systems; and identifies and resolves problems of organization and administrative management. Prepares and maintains organizational functional statements and delegations and designations of authority for AoA.

2. The Office of Budget and Finance (BE1). The Office of Budget and Finance (OBF) supports the Deputy Assistant Secretary for Management and Budget in fulfilling AoA's Chief Financial Officer responsibilities. The OBF Director serves as the Deputy Chief Financial Officer and Management Control Officer and oversees and coordinates AoA's budget formulation, budget execution, and financial management activities. OBF serves as the primary liaison with the Program Support Center's Division of Financial Operations, which provides accounting, audit, and financial management services to AoA.

In coordination with AoA program offices, formulates and presents budget estimates; executes apportionment documents; and plans, directs, and coordinates financial and budgetary programs of AoA. Provides guidance to AoA program offices in preparing budgets, justifications, and other supporting budgetary materials. Solicits, obtains and consolidates information and data from other AoA offices, and prepares budget documents on behalf of the Assistant Secretary for presentation to the Department, OMB, and the Congress.

Analyzes the budget as approved by the Congress and apportioned by OMB, obtains input from program offices and recommends for the Assistant Secretary's approval a financial plan for its execution. Makes allowances to AoA offices within the guidelines of the approved financial plan. Develops and maintains an overall system of budgetary controls to ensure observance of established ceilings on both program—including all mandatory and discretionary grant accounts—and Salaries and Expense funds; maintains administrative control of funds against allotments and allowances; certifies funds availability for all AoA accounts; and coordinates the management of AoA's interagency agreement activities. Prepares requests for apportionment of appropriated funds; and prepares spending plans and status-of-funds reports for the Assistant Secretary.

Develops financial operating procedures and manuals; coordinates the preparation of AoA's financial audits; and provides analysis on financial issues. Ensures that AoA has internal controls in place for its administrative and programmatic activities that provide reasonable assurance of the effectiveness and efficiency of operations and compliance with applicable laws and regulations. Conducts annual reviews and assessments of internal controls required under the Federal Managers Financial Integrity Act and ensures compliance with the GAO and OMB standards. Serves as the AoA liaison with the Office of the Secretary and OMB on all budgetary and financial matters.

Acts as AoA's coordination point for all travel management activities. Provides technical assistance and oversight on the use of the GovTrip system; manages employee participation in the Travel Charge Card program, and coordinates Travel Management Center services for AoA.

3. Office of Administration and Personnel (BE2). The Office of Administration and Personnel (OAP) provides support to AoA in the areas of human capital development, personnel, facilities, acquisitions, and other administrative services. The OAP Director serves as the Chief Human Capital Officer and provides leadership for the strategic planning and operational management of the AoA's human capital resources. OAP serves as the primary liaison to the Program Support Center's Division of Acquisition Management, which provides procurement services to AoA; and the Rockville Human Resources Center, which provides personnel support services to AoA.

Develops and implements human capital strategies and strategic workforce plans; directs the development and creation of strategies to attract diverse talent and develop a highly skilled workforce; and provides leadership in the development of plans for achieving short- and long-range human capital goals. Provides leadership and guidance to meet the human resource management needs and coordinates internal and external resources to provide staff with personnel services including position management, performance management, employee recognition, staffing, recruitment, employee and labor relations, employee assistance, payroll liaison, staff development and training, and special hiring and placement programs.

Provides oversight and direction to meet the administrative needs of AoA components. Prepares, coordinates and disseminates information, policy and procedural guidance on human resource and administrative management issues on an agency-wide basis. Serves as liaison with the Office of the Secretary, the General Services Administration (GSA), and outside vendors to plan, develop and coordinate guidelines and activities for space and facilities services. Serves as the lead for AoA in coordination and liaison with Departmental, GSA, Federal Protective Service, and other Federal agencies for planning and executing the Agency's environmental health, safety and physical security programs.

Assists other AoA components in securing contractor assistance by advising on appropriate acquisition vehicles, developing statements of work and independent cost estimates, and managing the technical aspects of contracts. Coordinates with the Office of Information Resources Management to develop and implement procurement strategies for information technology support services; review all information technology acquisition documentation for compliance with applicable laws and regulations; and define the specifications for procurement of all hardware and software. Monitors the use of credit cards for small purchases and establishes and manages contracts and/or blanket purchase agreements for administrative support and facilities management services.

4. Office of Grants Management (BE3). The Office of Grants Management (OGM) serves as AoA's focal point for the management, leadership and administration of discretionary and mandatory grants, and cooperative agreements. The OGM Director serves as the Chief Grants Management Officer and provides national policy oversight and development for grants management and administration matters. The Office ensures that all grant awards conform to applicable statutory, regulatory, and administrative policy requirements, both before and following award. Maintains liaison and coordination with appropriate AoA and HHS organizations to ensure consistency between AoA discretionary and mandatory grant award activities, including the Program Support Center's Division of Payment Management, which provides payment system services for grants.

Ensures that the administrative, business and financial management aspects of discretionary grants administration are carried out and grantee performance is monitored. Performs cost analysis/budget analysis for all discretionary grant award documents and negotiates grant budgets, executing all awards for AoA. Advises and assists management and program officials in developing, implementing and evaluating program plans, strategies, regulations, announcements, guidelines and procedures. Recommends approval or disapproval of any grant applications based on programmatic considerations. Only the Office of Grants Management has the authority to obligate the Government to the expenditure of funds for grants and cooperative agreements. Serves as liaison with other offices in the Department.

Issues and maintains control over mandatory grant awards under the OAA and other authorizing legislation, and makes adjustments to previously issued mandatory grant awards. In coordination with all AoA Central Office and Regional Support Centers having grant administrative responsibilities: Reviews and assesses AoA mandatory grant award procedures; directs and/or coordinates management initiatives to improve mandatory grant programs in financial areas; develops proposals for improving the efficiency in awarding grants and coordinating financial operations among AoA programs; establishes priorities and develops procedures for grantee financial monitoring; and reviews activities at the field level for all AoA discretionary and mandatory grant programs. For mandatory grant activities, develops financial management standards for State and Area Agencies and provides guidance on and interpretation of applicable Federal regulations to AoA staff. Based on mandatory grants management policies and procedures approved by the Department, reprograms mandatory grant funds as required under the OAA. Following consultation with all Central Office and Regional Support Centers having grant administrative responsibilities, and with the approval of the Assistant Secretary: Develops AoA instructions and procedures for the administration of the business aspects of all mandatory and formula grants, including those approved in AoA Regional Support Centers.

Provides training, technical assistance, overall guidance, monitoring and assistance to AoA staff in all areas of administrative and financial management of grants. Has primary responsibility for developing grants management policy issuances, and ensuring consistent policy interpretation within AoA concerning grants management. Serves as AoA liaison with the GAO, the HHS OIG and the Department's Office of Grants on grant matters. Assists at discretionary and mandatory grant hearings, before the Departmental Appeals Board, in response to disallowances and other financial claims by AoA, State Agencies on Aging, and other grantees. Responds to Departmental and OIG audit reviews, ensuring proper analysis and resolution of audit findings by Regional Support Centers for final action by the Assistant Secretary. Coordinates receipt and processing of all grants and related materials.

5. Office of Information Resources Management (BE4). The Office of Information Resources Management (OIRM) oversees and coordinates the provision of information technology services for AoA. The OIRM Director serves as the Deputy Chief Information Officer and prepares, coordinates and disseminates information, policies, standards, guidelines, and procedures on information technology management issues. OIRM serves as the primary liaison to the Program Support Center's Office of Information Technology Infrastructure Operations, which provides for the management, maintenance and operation of AoA's information technology systems infrastructure, including the LAN, personal computers, software, and support services.

Serves as liaison with the Office of the Secretary, GSA, and outside vendors to plan, develop and coordinate guidelines and activities for telecommunications services. Provides telecommunications planning and management, including procurement, installation, and maintenance of telecommunications equipment and services such as telephones, cellular phone service, cable TV service, and audio and video conferencing equipment and services.

In coordination with the Office of Administration and Personnel, develops and implements procurement strategies for information technology support services. Reviews all information technology acquisition documentation for compliance with applicable laws and regulations and defines the specifications for procurement of all hardware and software. Identifies opportunities to share information technology services through inter-governmental, inter-departmental and inter-agency agreements.

Manages the development of AoA custom applications, systems, and Web sites; oversees training and technical assistance for all AoA systems, hardware and software; and coordinates the preparation of manuals and policy issuances required to meet the instructional and informational needs of users of the systems. Directs and coordinates AoA's systems security and privacy responsibilities, including protection, security and integrity of AoA data; and is responsible for establishing and maintaining a secure Inter- and intranet presence. Represents AoA on the Department's Chief Information Officer's Council and other Departmental information technology policy and planning boards, teams, and workgroups.

D. Center for Program Operations (BF)

BF.00 Mission

BF.10 Organization

BF.20 Functions

BF.00 Mission. The Center for Program Operations (CPO) advises the Assistant Secretary for Aging on and provides leadership related to programs operated under the OAA and the PHSA.

BF.10 Organization. The Center for Program Operations is headed by a Deputy Assistant Secretary who reports directly to the Assistant Secretary for Aging. The Center is organized as follows:

Office of the Deputy Assistant Secretary for Program Operations (BF)

Office of Home and Community-Based Services (BF1)

Office of American Indian, Alaskan Native, and Native Hawaiian Programs (BF2)

Office of Elder Rights (BF3)

Office of Outreach and Consumer Information (BF4)

BF.20 Functions

1. Office of the Deputy Assistant Secretary for Program Operations (BF). The Office of the Deputy Assistant Secretary for Program Operations (ODASPO) provides expertise on program development, advocacy and initiatives within assigned areas. Provides leadership on behalf of Titles III, VI and VII of the OAA; those parts of Title II and Title IV of the OAA for which the Center is responsible; and Title XXIX of the Public Health Service Act (PHSA). Plans and directs the programs under the OAA designed to provide planning, coordination and services to older Americans through grant programs authorized under Titles II, III, IV, VI, and VII of the OAA.

Consults with and provides technical assistance to and education for State and Area Agencies on Aging, Tribal grantees, and local community service providers in the development of plans, goals, and system development activities. Ensures that statutory requirements, regulations, policies, and instructions are implemented for Titles III, VI and VII, and for the functions under Title II and Title IV of the OAA for which the Center is responsible, as well as for Title XXIX of the PHSA. In addition, the Deputy Assistant Secretary provides oversight and leadership to the Nutrition Officer established in Title II of the OAA who provides technical assistance and guidance to Regional Support Centers, States, Area Agencies on Aging and community service providers.

Works with the Principal Deputy Assistant Secretary to provide technical guidance to the Regional Support Centers as they implement the national programs of the OAA and ensure that clear and consistent guidance is given on program and policy directives. Issues substantive operating procedures to guide Central Office and Regional staff of AoA in the conduct of their programmatic responsibilities.

2. Office of Home and Community-Based Services (BF1). The Office of Home and Community-Based Services (OHCS) serves as the focal point within AoA for the operation, administration, management, and assessment of the programs authorized under Title III of the OAA and Title XXIX of the PHSA. In addition, the Office performs functions under Title II of the OAA related to consultation with other Federal agencies and the provision of information about aging services and programs in order to enhance service coordination and delivery.

Implements Title III of the OAA through the development of regulations, policies and guidance governing the development and enhancement of comprehensive and coordinated home and community-based care service delivery systems by State and Area Agencies on Aging. This includes implementing and enhancing systems for supportive services and the operation of multi-purpose senior centers, congregate and home-delivered nutrition services, health promotion and disease prevention services, and caregiver support and assistance services.

Provides guidance regarding State Plan processing and approval, the process and criteria for approval of States' Intrastate Funding Formulas for the allocation and targeting of resources within States, and implementation of the Interstate Funding Formula for distribution of Title III funds among States. Fosters, oversees, ensures accountability and assesses the implementation of Title III by States and Area Agencies through guidance and direction to Regional staff regarding program reviews and program and system development and enhancements. Designs and provides training and technical assistance for program compliance, effectiveness, and enhancement.

Directs and assesses the development of State-administered, home and community-based long-term care systems, and social and supportive services for the elderly. Initiates and encourages expansion of the capacities of home and community-based social service and health care systems to deliver comprehensive services to the elderly. Provides technical and subject matter expertise for the development of these systems, targeted at enhancing the capabilities of State and Area Agencies and local community service delivery programs to improve their service to older people. Provides specialized input on programs under the OAA to long-range planning, operational plans and the budget process.

Carries out the functions of the designated nutrition officer, who coordinates nutritional services under the Act and develops the regulations and guidelines, and provides technical assistance regarding nutrition to the AoA Regional Support Centers, State and Area Agencies, nutrition service providers, and other organizations. Serves as the liaison to the United States Department of Agriculture and other Federal agencies and organizations related to nutrition policy and program issues.

Works with the Office of Performance and Evaluation to conduct operational studies, program analyses, and evaluations on special issues of concern to the Secretary, the Assistant Secretary, and State and Area Agencies on Aging. Prepares reports on program operations under Title III for the Assistant Secretary, other AoA offices, the Secretary, the President, Congress and the public. Through the analysis of State Plans, evaluation findings and other relevant material, identifies potential Title III program and management issues and develops recommendations to the Assistant Secretary on possible solutions.

3. Office for American Indian, Alaskan Native, and Native Hawaiian Programs (BF2). The Office for American Indian, Alaskan Native, and Native Hawaiian Programs (OAIANNHP) administers programs authorized by Title VI of the OAA. On behalf of individuals who are older Native Americans, serves as the effective and visible advocate within the Department, with other Departments and agencies of the Federal Government, and with State, local and tribal governments providing leadership and coordination of activities, services and policies affecting American Indians, Alaskan Natives and Native Hawaiian elders. Advocates and promotes linkages among national Indian organizations, national aging organizations, and national provider organizations with the goal of enhancing the interests of and services to Native American elders. Recommends to the Assistant Secretary policies and priorities with respect to the development and operation of programs and activities relating to individuals who are older Native Americans. The Office coordinates activities among other Federal departments and agencies to ensure a continuum of improved services through memoranda of agreements or through other appropriate means of coordination.

Carries out the following responsibilities of Title II: Evaluates the outreach under Title III and Title VI and recommends necessary action to improve service delivery, outreach, and coordination between Title III and Title VI services; encourages and assists the provision of information to older Native Americans with need for Supplemental Security Income, Medicaid, food assistance, housing assistance, and transportation assistance; develops research plans, conducts and arranges for research in the field of Native American aging; collects, analyzes, and disseminates information related to problems experienced by older Native Americans, including information on health status of older individuals who are Native Americans, elder abuse, in-home care, and other problems unique to Native Americans; develops, implements, and oversees the uniform data collection procedures for Tribal and Native Hawaiian Organizations; and implements and oversees the consultation requirements of Title II as they apply to Native American issues.

Collaborates with the Office of Home and Community-Based Services on Title VI—Title III coordination. Provides specialized input on Title VI programs and the Native American components of Title II and Title VII-B programs to other offices for long-range planning, operational plans, research and training, and the budget process. Develops testimony and background documents concerning Native Americans for use by the Assistant Secretary.

Serves as the AoA focal point for the administration of the programs authorized under Title VI and the Native American Organization provisions of Title VII-B of the OAA, including administering grants, cooperative agreements and contracts. Implements the American Indian, Alaskan Native, and Native Hawaiian programs in the field through provision of program guidance, policy direction, and training to the Regional Support Centers in the execution of the Native American components of their Title II, Title VI and Title VII-B responsibilities. Coordinates with the Regional Support Centers for monitoring of Title VI grantees.

Oversees the development and operation of Resource Centers on Native American Elders, which gather information, perform research, provide for dissemination of results of the research, and provide technical assistance and training to those who provide services to Native American elders. Arranges for and manages ongoing training and technical assistance for Title VI grantees. Coordinates additional training and technical assistance with other projects managed by other components of the agency.

Chairs the Interagency Task Force on Older Indians which is comprised of representatives from the Federal departments and agencies with an interest in the welfare of individuals who are older Indians and makes recommendations to the Assistant Secretary at six-month intervals, to facilitate coordination among Federally funded programs and improve services to older Indians.

4. Office of Elder Rights (BF3). The Office of Elder Rights (OER) provides support to the Deputy Assistant Secretary for Program Operations for the administration of the elder abuse prevention, legal assistance development, and pension counseling provisions of Titles II and VII of the OAA throughout the Aging Network. The Office also works with the National Long-Term Care Ombudsman to carry out the Long-Term Care Ombudsman Program established under section 712 of the OAA and the National Ombudsman Resource Center established under section 202(a)(21) of the OAA, and conducts staff functions in support of these programs. In addition, OER administers the Senior Medicare Patrol projects under Title IV of the OAA and the Health Insurance Portability and Accountability Act of 1997.

Reviews State Plans to determine eligibility for funding under the OAA and recommends approval or disapproval to the Assistant Secretary. Implements Title VII in the field, in coordination with the National Long-Term Care Ombudsman, through the provision to Regional Support Centers of guidance and information concerning AoA programs, and the development and interpretation of Title VII program regulations and policy. Ensures the implementation of guidance and instructions concerning long-term care ombudsman, prevention of elder abuse, and elder rights and legal assistance development programs. Provides guidance and leadership in the development of the pension counseling program and effective models for nationwide replication.

Fosters, coordinates, and ensures accountability for the implementation of Title VII by States through guidance and direction to Regional staff regarding program reviews, and program and system development and enhancements. Designs and provides training and technical assistance for program compliance, effectiveness, and enhancement.

Serves as the agency's focal point for coordinating, implementing, monitoring, expanding, and promoting efforts to provide consumer information, education and protection designed to detect, prevent and report error, fraud and abuse in the Medicare and Medicaid programs. Provides in-depth expertise, information, leadership and technical assistance through the Regional Support Centers to the Senior Medicare Patrol network and serves as a reliable clearinghouse of information for the aging network, older persons and their families. Provides specialized input on Title VII and consumer protection programs to long-range planning, operational plans and the budget process. Develops program plans and instructions for AoA Regional Support Centers and State and Area Agencies to improve the Title VII protection and representational programs funded under the OAA.

5. Office of Outreach and Consumer Information (BF4). The Office of Outreach and Consumer Information (OOCI) provides leadership and a central strategic focus for AoA's information and referral, education, consumer service, benefits enrollment, and outreach strategies and activities. The Office is responsible for developing information dissemination and outreach strategies for AoA and the National Aging Network; coordinating the development of information materials, both printed and electronic; and managing the content of AoA's Web site and social media operations.

In conjunction with the Immediate Office of the Assistant Secretary, implements public education activities to support the achievement of AoA program objectives; develops and distributes publications and audiovisual materials about older people and prepares and issues brochures, fact sheets, and exhibits on the needs and concerns of older persons and measures to improve the circumstances, available services, and environment for the older population. Develops special information campaigns to inform older people and the general public about issues, problems and benefits important to older people. Fosters, plans and coordinates ceremonies and celebrations related to the elderly.

Oversees the development and operation of resource centers, clearinghouses, and other activities providing information and referral services to seniors and caregivers; and provides technical assistance and training in support of these activities. Implements technical assistance, outreach, and information dissemination programs that are culturally and linguistically appropriate in order to meet the needs of diverse populations of older individuals. Conducts multigenerational and civic engagement programs that encourage community capacity-building involving older individuals and demonstrate effectiveness and cost savings in meeting critical needs. Develops strategies to promote financial literacy and education for older populations.

At all levels, from national to the local service delivery level, develops methods and collaborations to articulate the problems and concerns of the elderly to organizations beyond the traditional network of agencies and works with these organizations to be more sensitive and responsive to age-related needs and issues. Oversees the international liaison functions of AoA, coordinating AoA international activities with Departmental as well as other Federal agencies, States and national organizations concerned with international aging matters.

Compiles, publishes, and disseminates information on programs funded under the Act, as well as demographic data on the elderly population and data from other Federal agencies on the health, social and economic status of older persons. Promotes information dissemination in professional fields. Ensures dissemination of information such as best practice models to exchange program experience with the network of State and Area Agencies on Aging; and works with organizations in the field of aging and with other organizations in fields that impact older persons to enhance the dissemination of consumer and technical information. Works with the Office of Performance and Evaluation to ensure the successful collection of data and its analysis to demonstrate the effectiveness of AoA dissemination activities. Ensures that program and service information and trends are disseminated to advocates for older persons.

Center for Planning, Policy and Evaluation (BH):

BE.00 Mission

BE.10 Organization

BE.20 Functions

BE.00 Mission. The Center for Planning, Policy and Evaluation (CPPE) advises and supports the Assistant Secretary for Aging in developing effective Federal policies and programs to address the aging of the population.

BE.10 Organization. The Center for Planning, Policy and Evaluation is headed by a Deputy Assistant Secretary who reports directly to the Assistant Secretary for Aging. The Center is organized as follows:

Office of the Deputy Assistant Secretary for Planning, Policy and Evaluation (BH)

Office of Program Innovation and Demonstration (BH1)

Office of Performance and Evaluation (BH2)

Office of Policy Analysis and Development (BH3)

BE.20 Functions:

1. Office of the Deputy Assistant Secretary for Planning, Policy and Evaluation (BH). The Office of the Deputy Assistant Secretary for Planning, Policy and Evaluation (ODASPPE) advises and supports the Assistant Secretary for Aging in serving as the visible and effective advocate for older people within the Federal Government. Leads the agency's strategic planning, policy analysis, evaluation and program development functions, including the formulation of short- and long-term strategies for advancing the Assistant Secretary's policy and program priorities.

Serves as the focal point within AoA for identifying and analyzing emerging policy issues and trends related to the aging population and appropriate Federal responses. Formulates an agency-wide policy and program development strategy consistent with the priorities established by the Assistant Secretary. Performs functions under Title II of the OAA related to consultation with other Federal agencies and the provision of information about aging services, programs and policies in order to enhance coordination and delivery.

Plans and directs the evaluation of programs under the OAA designed to provide planning, coordination and services to older Americans through grant programs authorized under Titles II, III, IV, VI, and VII of the OAA. The Deputy Assistant Secretary serves as the Performance Improvement Officer and is the primary AoA liaison with the Office of the Assistant Secretary for Planning and Evaluation, ASFR, and OMB for program performance and evaluation activities

2. Office of Program Innovation and Demonstration (BH1). The Office of Program Innovation and Demonstration (OPID) directs the development and implementation of demonstration programs and initiatives designed to test the efficacy of new and innovative service delivery models in improving the effectiveness of AoA community-based long-term care and health programs. Promotes the coordination of AoA's innovation and demonstration activities with other national, field and local programs related to aging. Provides technical assistance to Aging Network partners in utilizing the findings from program demonstrations to inform policy and program development and enhance service delivery and coordination at the Federal, State and local level.

Provides agency-wide leadership on the programmatic functions of AoA's discretionary grant programs. Plans and directs activities authorized under Title IV of the OAA as amended. Conducts activities to support the development of adequate knowledge for improving the circumstances of older people. Develops a knowledge base for policy decisions and program development and coordination through support of a wide range of innovation, demonstration, technical assistance and training activities.

Develops standards, operational models, and best practices on services to the elderly for use by the State and Area Agencies on Aging, Indian Tribal organizations, and local community providers. Develops technical assistance material and in-service training curricula concerning these standards, models, and best practices.

Prepares the planning documents for, and coordinates the development of, annual discretionary grant program announcements. Provides technical input for Congressional and budget presentations related to innovation and demonstration programs. Evaluates innovation, demonstration grant and contract proposals; and recommends approval/disapproval. Monitors progress, gives technical guidance to, and evaluates the performance of grantees and contractors.

Develops standards and identifies successful service and systems development strategies and best practice models for use by the Aging Network. Reviews products developed by AoA grantees, the Aging Network, and other sources regarding information on aging to identify new findings that will be useful to older people and professionals operating in the field of aging. Develops technical assistance material and dissemination strategies for these strategies, models, and best practices, in coordination with the other AoA offices. Determines the relative utility of such products, and in collaboration with the Office of Outreach and Consumer Information, their potential users and the most effective way to disseminate the information.

3. Office of Performance and Evaluation (BH2). The Office of Performance and Evaluation (OPE) implements, oversees and manages AoA's program performance responsibilities, data collection systems, and program evaluation activities, in collaboration with the Center for Program Operations. Develops plans and priorities for evaluation of AoA programs, with subject matter input from appropriate units. Manages contracting for mandated evaluation projects and performs intramural evaluation studies. Prepares reports of the results of program and impact evaluations conducted by and for AoA, with technical input from other AoA units. Provides technical guidance on evaluation activities conducted as part of AoA's discretionary grants programs.

Implements the requirements of the Government Performance and Results Act of 1993 (GPRA). Interprets AoA goals, priorities, and strategies for consistency with AoA long-range GPRA goals and strategies, and adjusts GPRA goals and strategies accordingly. Provides guidance and technical assistance to AoA organizational units in developing operational plans, particularly in developing measurable objectives and indicators reflecting program and organizational performance. Prepares AoA's annual GPRA plan and report and coordinates with Office of Budget and Finance on the development of the AoA performance budget.

Coordinates AoA activities related to the collection, analysis, and dissemination of national and program data on older individuals. Develops and manages data requirements associated with home and community-based services programs under Titles III, VI, and VII of the OAA. Develops and designs the criteria for collecting, analyzing and disseminating program performance data on State and Area Agencies' implementation of OAA programs, and prepares that data for reporting to Congress and the public. Designs, implements and provides guidance and technical assistance to State and Area Agencies on Aging and service providers on data collection and analysis (Section 202(b)(28)) and on uniform data collection procedures for State Units on Aging (Section 202(b)(29)).

Develops and operates, in coordination with the Office of Information Resources Management, a National Aging Program Information System focused on the information needs of AoA and the National Aging Network to both manage and advocate for the delivery of effective and efficient services to the elderly. Provides liaison with the Federal Task Force on Aging Statistics in support of planning and program requirements. Performs routine and special statistical analyses of data for AoA offices, other Federal and non-Federal organizations, and the general public.

4. Office of Policy Analysis and Development (BE4). The Office of Policy Analysis and Development (OPAD) is responsible for analyzing trends in demographics, service needs, public policy and program development, and translating those trends into new policies and programs in long-term care and health care that assist the elderly to remain in their own homes and communities. OPAD develops and maintains effective relationships with government and private sector entities and their representatives at the Federal, State and local levels to develop a unified policy toward, and promote the aims of the OAA; and oversees the development of more responsive service systems through intergovernmental and private sector initiatives and partnerships to address age-related issues and concerns.

Coordinates the development and implementation of the agency's strategic plan that establishes long and short-range goals, objectives, strategies and action plan for advancing the agency's policy and program agenda. Reviews and coordinates all policy and program development documents and activities to ensure consistency with AoA's strategic plan; and adjusts goals and strategies as appropriate.

Directs intergovernmental activities as it relates to the agency's policy and program development agenda, and develops and maintains effective relationships with other governmental departments and agencies. Plans, negotiates, facilitates and updates, as appropriate, memoranda of understanding with other departments and agencies to promote agreements and cooperative relationships and ventures that address policies and services affecting the aging population. Maintains information on, and pursues collaborative opportunities with, other Federal agencies, non-profit organizations and private corporations that have the potential to contribute to AoA's policy and program development priorities.

Supports the Assistant Secretary for Aging in implementing Section 203(1) of the OAA by coordinating, advising, consulting with and cooperating with the head of each department, agency and instrumentality of the Federal Government proposing or administering programs or services substantially related to the objectives of the OAA. Oversees the consultation process by which agency heads must consult with AoA before establishing programs or services related to the OAA. Plans and implements the process for the collaboration of all Federal agencies with AoA in the execution by those agencies of programs and services related to the OAA.

Provides technical, program and policy development input on legislative activities and the annual budget development cycle. Participates in Departmental and inter-departmental activities that concern health and long-term care; reviews and comments on Departmental regulations and policies regarding health programs and institutional and non-institutional long-term care services.

Conducts relevant policy research, conducts periodic reviews of needs and resources in the field of aging, and undertakes qualitative and quantitative analyses to develop policy options and recommendations for the Assistant Secretary. Develops policy reports based on the needs and circumstances of older people, their family members and the aging population. Develops and coordinates initiatives with other Federal agencies, national aging organizations and universities to fill gaps in information in the field of aging.

II. Delegations of Authority: All delegations and re-delegations of authority made to officials and employees of affected organizational components will continue in them or their successors pending further re-delegations.

III. Funds, Personnel and Equipment: Transfer of organizations and functions affected by this reorganization shall be accompanied in each instance by direct and support funds, positions, personnel, records, equipment, supplies and other resources.

Dated: February 22, 2010.
Kathleen Sebelius,
Secretary.

[FR Doc. 2010-8165 Filed 4-8-10; 8:45 am]

BILLING CODE 4154-01-P